DEPARTMENT OF TRANSPORTATION

Federal Railroad Administration

[Docket Number FRA-2016-0086]

Notice of Petition for Inclusion in Waiver of Compliance

AGENCY: Federal Railroad Administration (FRA), Department of Transportation (DOT).

ACTION: Notice.

SUMMARY: This document provides the public notice that Norfolk Southern Corporation (NS) petitioned FRA for relief from certain regulations concerning calibration of air flow method (AFM) indicators.

DATES: FRA must receive comments on the petition by October 6, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Steve Zuiderveen, Railroad Safety Specialist, FRA Motive Power & Equipment Division, telephone: 202-493-6337, email: steven.zuiderveen@dot.gov.

SUPPLEMENTARY INFORMATION: Under part 211 of title 49 Code of Federal Regulations (CFR), this document provides the public notice that by letter dated July 1, 2025 NS petitioned FRA for inclusion in a waiver of compliance from certain provisions of the Federal railroad safety regulations contained at 49 CFR parts 229 (Railroad Locomotive Safety Standards) and 232 (Brake System Safety Standards for Freight and Other Non-Passenger Trains and Equipment: End-of-Train Devices). FRA assigned the petition Docket Number FRA-2016-0086.

Specifically, NS seeks to join the relief granted in this docket from § 229.29(b), Air brake system calibration, maintenance, and testing and § 232.205(c)(1)(iii), Class I brake test—initial terminal inspection. The existing relief allows participating railroads to test extending the AFM test intervals from 92 days to 184 days on locomotives equipped with the New York Air Brake (NYAB) CCB-II and Fastbrake air brake systems.¹

¹ As of FRA's November 26, 2024 letter, the railroads participating in the relief in this docket are BNSF Railway Company, CSX Transportation, and CPKC.

To justify the waiver request, NS states that participating in the waiver will reduce the risk exposure to its mechanical workers by eliminating over 4,000 AFM calibrations. Further, NS notes that testing performed during this program “has shown AFM calibration performed using the required 92-day test interval adversely affects the integrity of the airflow reading.” NS adds that it has prepared a test plan and installed the appropriate software on its fleet of 2,004 CCB-II and CCB-IIe locomotives.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by October 6, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-16937 Filed 9-3-25; 8:45 am]

BILLING CODE 4910-06-P